DEPARTMENT OF COMMERCE

International Trade Administration

[A-570-194]

Active Anode Material From the People's Republic of China: Preliminary Affirmative Determination of Sales at Less Than Fair Value, Postponement of Final Determination and Extension of Provisional Measures

AGENCY: Enforcement and Compliance, International Trade Administration, Department of Commerce.

SUMMARY: The U.S. Department of Commerce (Commerce) preliminarily determines that active anode material from the People's Republic of China (China) is being, or is likely to be, sold in the United States at less than fair value (LTFV). The period of investigation (POI) is April 1, 2024, through September 30, 2024. Interested parties are invited to comment on this preliminary determination.

DATES: Applicable July 22, 2025.

FOR FURTHER INFORMATION CONTACT: Hermes Pinilla or Jacob Keller, AD/CVD Operations, Office I, Enforcement and Compliance, International Trade Administration, U.S. Department of Commerce, 1401 Constitution Avenue NW, Washington, DC 20230; telephone: (202) 482-3477 or (202) 482-4849, respectively.

SUPPLEMENTARY INFORMATION:

Background

This preliminary determination is made in accordance with section 733(b) of the Tariff Act of 1930, as amended (the Act). Commerce published the notice of initiation of this investigation on January 15, 2025.¹ On May 8, 2025, Commerce postponed the preliminary determination of this investigation.² The deadline for the preliminary determination is now July 16, 2025.

¹ See Active Anode Material from the People's Republic of China: Initiation of Less-Than-Fair Value Investigation, 90 FR 3792 (January 15, 2025) (Initiation Notice).

² See Active Anode Material from the People's Republic of China: Postponement of Preliminary Determination in the Less-Than-Fair Value Investigation, 90 FR 19466 (May 8, 2025).

For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Affirmative Determination in the Investigation of Sales at Less Than Fair Value of Active Anode Material from People's Republic of China,” dated concurrently with, and hereby adopted by, this notice (Preliminary Decision Memorandum).

Scope of the Investigation

The product covered by this investigation is active anode material from China. For a complete description of the scope of this investigation, see Appendix I.

Scope Comments

In accordance with the Preamble to Commerce's regulations,⁴ the Initiation Notice set aside a period of time for parties to raise issues regarding product coverage (i.e., scope).⁵ Certain interested parties commented on the scope of the investigation as it appeared in the Initiation Notice. For a summary of the product coverage comments and rebuttal responses submitted to the record for this preliminary determination, and accompanying discussion and analysis of all comments timely received, see the Preliminary Scope Decision Memorandum.⁶ As discussed in the Preliminary Scope Decision Memorandum, Commerce is not preliminarily modifying the scope language as appeared in the Initiation Notice.

⁴ See Antidumping Duties; Countervailing Duties, Final Rule, 62 FR 27296, 27323 (May 19, 1997) (Preamble).

⁵ See Initiation Notice, 90 FR at 3793.

⁶ See Memorandum, “Antidumping and Countervailing Duty Investigations of Active Anode Material from the People's Republic of China: Preliminary Scope Determination,” dated concurrently with this notice (Preliminary Scope Decision).

Methodology

Commerce is conducting this investigation in accordance with section 731 of the Act. Pursuant to sections 776(a) and (b) of the Act, Commerce preliminarily relied upon facts otherwise available, with adverse inferences, for the China-wide entity. As discussed further below, we preliminarily determine that BTR New Material Group Sales (BTR) and Contemporary Amperex Technology Co., Ltd. (CATL) to be de facto controlled by the government of China and are, consequently, ineligible for a separate rate, and thus, are part of the China-wide entity and subject to the China-wide entity rate.⁷ For a full description of the methodology underlying Commerce's preliminary determination, see the Preliminary Decision Memorandum.

⁷ See Preliminary Decision Memorandum at 7.

Combination Rates

In the Initiation Notice,⁸ Commerce stated that it would calculate producer/exporter combination rates for the respondents that are eligible for a separate rate in this investigation. Policy Bulletin 05.1 describes this practice.⁹ In this investigation, we assigned a producer/exporter combination rate for the companies that are listed in the “Preliminary Determination” and eligible for separate rates.

⁸ Id.

⁹ See Enforcement and Compliance's Policy Bulletin No. 05.1, regarding, “Separate-Rates Practice and Application of Combination Rates in Antidumping Investigations involving Non-Market Economy Countries,” (April 5, 2005) (Policy Bulletin 05.1), available on Commerce's website at enforcement.trade.gov/policy/bull05-1.pdf.

Separate Rates

We preliminarily granted a separate rate to certain separate rate respondents that we did not select for individual examination.¹⁰ In calculating the rate for non-individually examined separate rate respondents in a non-market economy LTFV investigation, Commerce normally looks to section 735(c)(5)(A) of the Act, which pertains to the calculation of the all-others rate in a market economy LTFV investigation, for guidance. Pursuant to section 735(c)(5)(A) of the Act, normally this rate shall be an amount equal to the weighted-average of the estimated weighted-average dumping margins established for those companies individually examined, excluding zero and de minimis dumping margins, and any dumping margins based entirely under section 776 of the Act. The statute further provides that, where all margins are zero, de minimis, or based entirely on facts available, Commerce may use “any reasonable method” for assigning the rate to non-selected respondents.¹¹

¹⁰ See the Preliminary Decision Memorandum for additional details.

¹¹ See section 735(c)(5)(B) of the Act.

In this preliminary determination, we preliminarily find that the two individually examined respondents are not eligible for a separate rate, and thus, are part of the China-wide entity. The dumping margin preliminarily assigned to the China-wide entity is determined entirely under section 776 of the Act. In investigations where no estimated weighted-average dumping margins other than zero, de minimis, or those determined entirely under section 776 of the Act have been established for individually-examined entities, in accordance with section 735(c)(5)(B) of the Act, Commerce's practice is to calculate a simple average of the margins alleged in the petition and apply the result to the entities not individually examined but found eligible for a separate rate.¹² In this investigation, the simple average of the rates in the Petition is 93.50 percent.¹³ See the table below in the “Preliminary Determination” section of this notice.

¹² See, e.g., Disposable Aluminum Containers, Pans, Trays, and Lids from the People's Republic of China: Final Affirmative Determination of Sales at Less Than Fair Value and Final Affirmative Determination of Critical Circumstances, 90 FR 11705 (March 11, 2025); see also Preliminary Decision Memorandum at 9-10.

¹³ See Petitioner's Letter, “Supplemental Questions Regarding Antidumping Volume II of the Petitions,” dated December 27, 2024, at Exhibit II-SUPP-9 (Petition); see also Petitioner's Letter, “Clarification of the Cost of Production,” dated July 15, 2025; Memorandum, “Less-Than-Fair-Value Investigation on Active Anode Material from the People's Republic of China: Preliminary Antidumping Duty Margins,” dated concurrently with this memorandum; and Preliminary Decision Memorandum at 11.

Preliminary Determination

Commerce preliminarily determines that the following estimated weighted-average dumping margins exist:

Exporter | Producer | Weighted- average dumping margin (percent) | Cash deposit rate (adjusted for subsidy offsets) (percent)
Carbon ONE New Energy Group Co., Ltd | Zhejiang Lichen New Materials Co., Ltd | 93.50 | 93.50
Canadian Solar Energy Holding Company Limited | Xiamen Hithium Energy Storage Technology Co., Ltd | 93.50 | 93.50
Canadian Solar Energy Holding Company Limited | EVE Power Co., Ltd | 93.50 | 93.50
Canadian Solar Energy Holding Company Limited | CSI Energy Storage Co., Ltd | 93.50 | 93.50
Canadian Solar Energy Holding Company Limited | CSI Energy Storage Technology (Dafeng) Co., Ltd | 93.50 | 93.50
Farasis Energy (Zhenjiang) Co., Ltd | Farasis Energy (Zhenjiang) Co., Ltd | 93.50 | 93.50
Farasis Energy (Ganzhou) Co., Ltd | Farasis Energy (Ganzhou) Co., Ltd | 93.50 | 93.50
Tesla Manufacturing Brandenburg SE | BTR New Material Group Co., Ltd | 93.50 | 93.50
Tesla (Shanghai) Co., Ltd | Shijiazhuang Shangtai Technology Co., Ltd | 93.50 | 93.50
Tesla (Shanghai) Co., Ltd | Guangdong Kaijin New Energy Technology Corp., Ltd | 93.50 | 93.50
Tesla (Shanghai) Co., Ltd | BTR New Material Group Sales Co., Ltd | 93.50 | 93.50
Tesla (Shanghai) Co., Ltd | Shanghai XFH Technology Co. Ltd | 93.50 | 93.50
LG Energy Solution (Nanjing) Co. Ltd | LG Energy Solution (Nanjing) Co. Ltd | 93.50 | 93.50
Panasonic Energy Nandan, Co., Ltd | Resonac Corporation | 93.50 | 93.50
Panasonic Energy Nandan, Co., Ltd | BTR New Material Group Co., Ltd | 93.50 | 93.50
Panasonic Energy Nandan, Co., Ltd | BTR (Jiangsu) New Energy Material | 93.50 | 93.50
Panasonic Energy (Suzhou) Co., Ltd | Resonac Electronic Materials (Yantai) Co., Ltd | 93.50 | 93.50
Panasonic Energy (Suzhou) Co., Ltd | BTR New Material Group Co., Ltd | 93.50 | 93.50
Panasonic Energy (Wuxi) Co., Ltd | Resonac Corporation | 93.50 | 93.50
Panasonic Energy (Wuxi) Co., Ltd | Resonac Electronic Materials (Yantai) Co., Ltd | 93.50 | 93.50
Panasonic Energy (Wuxi) Co., Ltd | BTR New Material Group Co., Ltd | 93.50 | 93.50
Panasonic Energy Mexico, S.A. DE. C.V | Resonac Corporation | 93.50 | 93.50
Panasonic Energy Mexico, S.A. DE. C.V | Resonac Electronic Materials (Yantai) Co., Ltd | 93.50 | 93.50
Panasonic Energy Mexico, S.A. DE. C.V | BTR New Material Group Co., Ltd | 93.50 | 93.50
Panasonic Global Procurement (China) Co., Ltd | BTR New Material Group Co., Ltd | 93.50 | 93.50
Panasonic Global Procurement (China) Co., Ltd | BTR (Jiangsu) New Energy Material | 93.50 | 93.50
Panasonic Global Procurement (China) Co., Ltd | Huzhou Kaijin New Energy Technology Corp., Ltd | 93.50 | 93.50
Panasonic Connect Co., Ltd | Resonac Corporation | 93.50 | 93.50
Panasonic Connect Co., Ltd | BTR New Material Group Co., Ltd | 93.50 | 93.50
Panasonic AVC Networks Taiwan Co., Ltd | Resonac Corporation | 93.50 | 93.50
Panasonic AVC Networks Taiwan Co., Ltd | BTR New Material Group Co., Ltd | 93.50 | 93.50
Panasonic Energy Co., Ltd | Resonac Corporation | 93.50 | 93.50
Panasonic Energy Co., Ltd | BTR (Jiangsu) New Energy Material | 93.50 | 93.50
Panasonic Energy Co., Ltd | BTR New Material Group Co., Ltd | 93.50 | 93.50
Panasonic Kabushiki Kaisha (Panasonic Corporation) | Resonac Corporation | 93.50 | 93.50
Panasonic Kabushiki Kaisha (Panasonic Corporation) | BTR New Material Group Co., Ltd | 93.50 | 93.50
Panasonic Entertainment & Communication Co., Ltd | Resonac Corporation | 93.50 | 93.50
Panasonic Entertainment & Communication Co., Ltd | BTR New Material Group Co., Ltd | 93.50 | 93.50
Panasonic Manufacturing (Shanghai) Co., Ltd | Resonac Corporation | 93.50 | 93.50
Panasonic Manufacturing (Shanghai) Co., Ltd | BTR New Material Group Co., Ltd | 93.50 | 93.50
Prime Planet Energy & Solutions, Inc | Prime Planet Energy Dalian Co | 93.50 | 93.50
Saft (Zhuhai) Energy Storage Co., Ltd | Tianjin Lishen Battery Joint-Stock Co., Ltd | 93.50 | 93.50
Saft (Zhuhai) Energy Storage Co., Ltd | Qingdao Lishen New Energy Technology Co. Ltd | 93.50 | 93.50
Sunwoda Electronic Co., Ltd | Sunwoda Electronic Co., Ltd | 93.50 | 93.50
Sunwoda Electronic Co., Ltd | Zhejiang Sunwoda Electronic Co., Ltd | 93.50 | 93.50
Sunwoda Energy Technology Co., Ltd | Huizhou Sunwoda Energy Technology Co., Ltd | 93.50 | 93.50
Sunwoda Mobility Energy Technology Co., Ltd | Nanjing Sunwoda New Power Co., Ltd | 93.50 | 93.50
SK On Co., Ltd | BTR New Material Group Co., Ltd | 93.50 | 93.50
Samsung SDI Energy Malaysia Sdn, Bhd | BTR New Material Group Sales Co., Ltd | 93.50 | 93.50
Samsung SDI Energy Malaysia Sdn, Bhd | Jiangxi Zichen Technology Co., Ltd | 93.50 | 93.50
Samsung SDI (Tianjin) Battery Co., Ltd | BTR New Material Group Sales Co., Ltd | 93.50 | 93.50
Samsung SDI (Tianjin) Battery Co., Ltd | Jiangxi Zichen Technology Co., Ltd | 93.50 | 93.50
Samsung SDI (Tianjin) Battery Co., Ltd | Carbon ONE New Energy Group Co., Ltd | 93.50 | 93.50
Samsung SDI Hungary ZRT | BTR New Material Group Sales Co., Ltd | 93.50 | 93.50
Samsung SDI Hungary ZRT | Jiangxi Zichen Technology Co., Ltd | 93.50 | 93.50
Samsung SDI Co., Ltd | BTR New Material Group Sales Co., Ltd | 93.50 | 93.50
Samsung SDI Co., Ltd | Jiangxi Zichen Technology Co., Ltd | 93.50 | 93.50
Hunan Zhongke Shinzoom Co., Ltd | Guizhou Zhongke Shinzoom Co., Ltd | 93.50 | 93.50
Jiangxi Zichen Technology Co., Ltd | Jiangxi Zichen Technology Co., Ltd | 93.50 | 93.50
Resonac Corporation | Henan Yicheng New Energy Co., Ltd | 93.50 | 93.50
Resonac Corporation | PetroChina Daqing Petrochemical Company | 93.50 | 93.50
Resonac Corporation | Qingdao Qingbei Carbon Products Co., Ltd | 93.50 | 93.50
Shanghai Shanshan New Material Co., Ltd | Inner Mongolia Shanshan Technology Co., Ltd | 93.50 | 93.50
Shanghai Shanshan New Material Co., Ltd | Sichuan Shanshan New Material Co., Ltd | 93.50 | 93.50
Shanghai Shanshan New Material Co., Ltd | Fujian Shanshan Technology Co., Ltd | 93.50 | 93.50
Shanghai Shanshan New Material Co., Ltd | Ningbo Shanshan New Material Technology Co., Ltd | 93.50 | 93.50
China-Wide Entity | * 102.72 | 102.72
* This rate is based on facts available with adverse inferences.

Suspension of Liquidation and Cash Deposit Requirements

In accordance with section 733(d)(2) of the Act, Commerce will direct U.S. Customs and Border Protection (CBP) to suspend liquidation of entries of subject merchandise, as described in Appendix I, entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-county exporters of merchandise under consideration not listed in the table above, the cash deposit rate is the cash deposit rate applicable to the Chinese producer/exporter combination (or the China-wide entity) that supplied that third-country exporter.

To determine the cash deposit rate, Commerce normally adjusts the estimated weighted-average dumping margin by the amount of domestic subsidy pass-through and export subsidies determined in a companion countervailing duty (CVD) proceeding when CVD provisional measures are in effect. Accordingly, where Commerce has made a preliminary affirmative determination for domestic subsidy pass-through or export subsidies, Commerce has offset the calculated estimated weighted-average dumping margin by the appropriate rate(s). Any such adjusted rates may be found in the “Preliminary Determination” section's table of estimated weighted-average dumping margins above.

Should provisional measures in the companion CVD investigation expire prior to the expiration of provisional measures in this LTFV investigation, Commerce will direct CBP to begin collecting cash deposits at a rate equal to the estimated weighted-average dumping margins calculated in this preliminary determination unadjusted for the passed-through domestic subsidies or for export subsidies at the time the CVD provisional measures expire.

These suspension of liquidation instructions will remain in effect until further notice.

Disclosure

Commerce intends to disclose to interested parties the calculations and analysis it performed in connection with this preliminary determination within five days of the public announcement or, if there is no public announcement, within five days of the date of publication of this notice in the Federal Register in accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

Because the mandatory respondents in this investigation are not eligible for a separate rate, Commerce does not intend to conduct verification.

Public Comment

Case briefs or other written comments may be submitted to the Assistant Secretary for Enforcement and Compliance no later than 30 days after the date of publication of this preliminary determination in the Federal Register. Rebuttal briefs, limited to issues raised in the case briefs, may be filed not later than five days after the date for filing case briefs.¹⁴ Interested parties who submit case briefs or rebuttal briefs in this proceeding must submit: (1) a table of contents listing each issue; and (2) a table of authorities.¹⁵

¹⁴ See 19 CFR 351.309(d); see also Administrative Protective Order, Service, and Other Procedures in Antidumping and Countervailing Duty Proceedings, 88 FR 67069, 67077 (September 29, 2023) (APO and Service Final Rule).

¹⁵ See 19 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public, executive summary for each issue raised in their briefs.¹⁶ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests should contain: (1) the party's name, address, and telephone number; (2) the number of participants and whether any participant is a foreign national; and (3) a list of the issues to be discussed. If a request for a hearing is made, Commerce intends to hold the hearing at a time and date to be determined. Parties should confirm the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Pursuant to 19 CFR 351.210(e)(2), Commerce requires that requests by respondents for postponement of a final antidumping duty determination be accompanied by a request for extension of provisional measures from a four-month period to a period not more than six months in duration.

On July 8 and 11, 2025, BTR and CATL requested that Commerce postpone the final determination and that the provisional measures be extended to a period not to exceed six months, respectively.¹⁸ In accordance with section 735(a)(2)(A) of the Act and 19 CFR 351.210(b)(2)(ii), because: (1) the preliminary determination is affirmative; (2) the requesting exporters account for a significant proportion of exports of the subject merchandise; and (3) no compelling reasons for denial exist, Commerce is postponing the final determination and extending the provisional measures from a four-month period to a period not greater than six months. Accordingly, Commerce will make its final determination no later than 135 days after the date of publication of this preliminary determination.

¹⁸ See BTR's Letter, “Request to Extend Final Determination,” dated July 8, 2025; see also CATL's Letter, “CATL's Final Determination Extension Request,” dated July 11, 2025.

U.S. International Trade Commission (ITC) Notification

In accordance with section 733(f) of the Act, Commerce will notify the ITC of its preliminary determination of sales at LTFV. If the final determination is affirmative, the ITC will determine before the later of 120 days after the date of this preliminary determination or 45 days after the final determination whether imports of subject merchandise are materially injuring, or threaten material injury to, the U.S. industry.

Notification to Interested Parties

This preliminary determination is issued and published in accordance with sections 733(f) and 777(i)(1) of the Act, and 19 CFR 351.205(c).

Dated: July 16, 2025.
Christopher Abbott,
Deputy Assistant Secretary for Policy and Negotiations, performing the non-exclusive functions and duties of the Assistant Secretary for Enforcement and Compliance.

Appendix I

Scope of the Investigation

The merchandise covered by the investigation is active anode material, which is an anode grade graphite material with a graphite minimum purity content of 90 percent carbon by weight, whether containing synthetic graphite, natural graphite, or a blend of synthetic and natural graphite; with or without coating. Subject merchandise may be in the form of powder, dry, liquid, or block form and is covered irrespective of the form in which it enters. Subject merchandise typically has a maximum size of 80 microns when in powder form. Subject merchandise has an energy density of 330 milliamp hours per gram or greater and a degree of graphitization of 80 percent or greater, where graphitization refers to the extent of the graphite crystal structure.

Subject merchandise is covered regardless of whether it is mixed with silicon based active materials, e.g., silicon-oxide (SiOx), silicon-carbon (SiC), or silicon, or additives such as carbon black or carbon nanotubes. Subject merchandise is covered regardless of the combination of compounds that comprise the graphite material. Subject merchandise is covered regardless of whether it is imported independently, as part of a compound, in a battery, as a component of an anode slurry, or in a subassembly of a battery such as an electrode. Only the anode grade graphite material is covered when entered as part of a mixture with silicon based active materials, as part of a compound, in a battery, as a component of an anode slurry, or in a subassembly of a battery such as an electrode.

Active anode material subject to the investigation may be classified under the Harmonized Tariff Schedule of the United States (HTSUS) subheadings 2504.10.5000 and 3801.10.5000. Subject merchandise may also enter under HTSUS subheadings 2504.10.1000 and 3801.90.0000. The HTSUS subheadings are provided for convenience and customs purposes only. The written description of the scope of the investigation is dispositive.

Appendix II

List of Topics Discussed in the Preliminary Decision Memorandum

I. Summary

II. Background

III. Period of Investigation

IV. Discussion of the Methodology

V. Adjustment Under Section 777(A)(f) of the Act

VI. Adjustment to Cash Deposit Rates for Export Subsidies in the Companion Countervailing Duty Investigation

VII. Recommendation

[FR Doc. 2025-13692 Filed 7-21-25; 8:45 am]

BILLING CODE 3510-DS-P